Proclamation 10716 of March 29, 2024

Month of the Military Child, 2024

By the President of the United States of America

A Proclamation

This April, we celebrate children of our service members and veterans whose sacrifice and support allow their parents to serve our Nation and protect children everywhere.

Over the years, the First Lady and I have had the honor of meeting with military and veteran children from every corner of our Nation and witnessing their incredible sense of duty firsthand. These young patriots often pack up their lives every few years, starting new schools and making new friends. From watching our own grandchildren, we also know that military children embody courage and selflessness, remaining brave when their moms or dads are deployed and remaining resilient when celebrating birthdays and holidays with an empty seat at the dinner table. Military and veteran children also take care of loved ones who are wounded, ill, or injured—and far too many grow up with the unbearable pain of losing a parent. It is a solemn reminder that being a military child means sacrificing for our country without ever wearing a uniform.

Our Nation has many obligations, but we have only one truly sacred obligation: to prepare and equip those we send into harm's way and to care for them and their families—especially our military children—while deployed and when they return home. That is why I signed an Executive Order last year that establishes the most comprehensive set of administrative actions in our Nation's history to support the economic security of military and veteran spouses, caregivers, and survivors—including improving access to quality, dependable, and affordable child care. My Administration expanded the Military Parental Leave Program, ensuring that service members have the time they need with their families after a child's birth, adoption, or long-term foster care placement. We are working to guarantee universal pre-kindergarten for military children at Department of Defense schools. We have begun that work by launching a pilot program at a school in Japan. The First Lady's Joining Forces initiative is providing support to military children by improving economic opportunity for military families, making school transitions easier, and expanding resources to promote their families' health and well-being.

Military children embody the very best of America—shouldering the unique challenges military life places on families across our Nation and around the world with tenacity. This month—and every month—we honor their bravery and show our gratitude to the children of our military service members and veterans for their own service to our Nation.

NOW, THEREFORE, I, JOSEPH R. BIDEN JR., President of the United States of America, by virtue of the authority vested in me by the Constitution and laws of the United States, do hereby proclaim April 2024 as the Month of the Military Child. I call upon the people of the United States to honor the children of our service members and veterans with appropriate ceremonies and activities. I also encourage Americans everywhere to find ways to support military-connected children, including by wearing purple during the month of April in honor of their service.

IN WITNESS WHEREOF, I have hereunto set my hand this twenty-ninth day of March, in the year of our Lord two thousand twenty-four, and of the Independence of the United States of America the two hundred and forty-eighth.

[FR Doc. 2024-07179

Filed 4-2-24; 8:45 am]

Billing code 3395-F4-P